DEPARTMENT OF AGRICULTURE

Animal and Plant Health Inspection Service

9 CFR Part 72

[Docket No. 01-110-2]

Texas (Splenetic) Fever in Cattle; Incorporation by Reference

AGENCY: Animal and Plant Health Inspection Service, USDA.

ACTION: Affirmation of interim rule as final rule.

SUMMARY: We are adopting as a final rule, without change, an interim rule that amended the Texas (splenetic) fever in cattle regulations by updating the incorporation by reference of the Texas Animal Health Commission regulations that contain the description of the areas in Texas quarantined because of ticks. The interim rule was necessary to update the incorporation by reference to reflect the effective date of the current Texas Animal Health Commission regulations that describe the quarantined area.

EFFECTIVE DATE: The interim rule became effective on April 16, 2002.

FOR FURTHER INFORMATION CONTACT: Dr. Glen Garris, Senior Staff Officer, Invasive Species Team, Animal Health Programs Staff, VS, APHIS, 4700 River Road Unit 33, Riverdale, MD 20737-1231; (301) 734-8093.

SUPPLEMENTARY INFORMATION:

Background

In an interim rule effective and published in the Federal Register on April 16, 2002 (67 FR 18466-18467, Docket No. 01-110-1), we amended the Texas (splenetic) fever in cattle regulations in 9 CFR part 72 by updating the incorporation by reference of the Texas Animal Health Commission regulations that contain the description of the areas in Texas quarantined because of ticks. The interim rule was necessary to update the incorporation by reference to reflect the effective date of the current Texas Animal Health Commission regulations that describe the quarantined area.

Comments on the interim rule were required to be received on or before June 17, 2002. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 9 CFR Part 72

Animal diseases, Cattle, Incorporation by reference, Quarantine, Transportation.

PART 72—TEXAS (SPLENETIC) FEVER IN CATTLE

Accordingly, we are adopting as a final rule, without change, the interim rule that amended 9 CFR part 72 and that was published at 67 FR 18466-18467 on April 16, 2002.

Authority: 7 U.S.C. 8303, 8304, 8305, 8306, 8308, 8313, and 8315; 7 CFR 2.22, 2.80, and 371.4.

Done in Washington, DC, this 23rd day of September, 2002.
Peter Fernandez,
Acting Administrator, Animal and Plant Health Inspection Service.

[FR Doc. 02-24601 Filed 9-26-02; 8:45 am]

BILLING CODE 3410-34-P